DEPARTMENT OF HEALTH AND HUMAN SERVICES

Centers for Disease Control and Prevention

Disease, Disability, and Injury Prevention and Control; Special Emphasis Panel: Community Partners for Healthy Farming Intervention, Request for Applications OH-03-004

In accordance with section 10(a)(2) of the Federal Advisory Committee Act (Pub. L. 92-463), the Centers for Disease Control and Prevention (CDC) announces the following meeting:

Name: Disease, Disability, and Injury Prevention and Control Special Emphasis Panel (SEP): Community Partners for Healthy Farming Intervention, Request for Applications OH-03-004.

Times and Dates: 9 a.m.-9:30 a.m., July 30, 2003 (Open), 9:30 a.m.-5:30 p.m., July 30, 2003 (Closed), 9 a.m.-5:30 p.m., July 31, 2003 (Closed).

Place: Sheraton Boston Hotel, 38 Dalton Street, Boston, MA 02199, Telephone 800-325-3535.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to Request For Applications OH-03-004.

FOR FURTHER INFORMATION CONTACT: Gwendolyn H. Cattledge, M.S.E.H., Ph.D., Scientific Review Administrator, Office of Extramural Programs, National Institute for Occupational Safety and Health, CDC, 1600 Clifton Road, NE, MS-E74, Atlanta, GA 30333, Telephone (404) 498-2508.

The Director, Management Analysis and Services Office, has been delegated the authority to sign Federal Register notices pertaining to announcements of meetings and other committee management activities, for both CDC and the Agency for Toxic Substances and Disease Registry.

Diane C. Allen,
Acting Director, Management Analysis and Services Office, Centers for Disease Control and Prevention.

[FR Doc. 03-17700 Filed 7-11-03; 8:45 am]

BILLING CODE 4163-19-P